DEPARTMENT OF HEALTH AND HUMAN SERVICES

Administration for Children and Families

Submission for OMB Review; Comment Request

Title: Communities Empowering Youth (CEY) Program Evaluation.

OMB No.: 0970-0335.

Description: This proposed information collection activity is to obtain information from Communities Empowering Youth (CEY) grantee agencies and the faith-based and community organizations working in partnership with them. The CEY evaluation is an important opportunity to examine the outcomes achieved through this component of the Compassion Capital Fund in meeting its objective of improving the capacity of faith-based and community organizations and the partnerships they form to increase positive youth development and address youth violence, gang involvement, and child abuse/neglect. The evaluation will be designed to assess changes and improvements in the structure and functioning of the partnership and the organizational capacity of each participating organization. The purpose of this request is to revise the approved baseline instrument for follow-up data collection.

Respondents: CEY grantees and the faith-based and community organizations that are a part of the partnership approved under the CEY grant are respondents.

Annual Burden Estimates
Instrument | Annual number of respondents | Number of responses per respondent | Average burden hours per response | Total annual burden hours
Follow-up Survey | 354 | 1 | .466 | 165

Estimated Total Annual Burden Hours: 165.

Additional Information:

Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: February 6, 2009.
Brendan C. Kelly,
OPRE Reports Clearance Officer.

[FR Doc. E9-3050 Filed 2-13-09; 8:45 am]

BILLING CODE 4184-01-M